DEPARTMENT OF THE INTERIOR

National Park Service

[NPS-MWR-HOCU-21607; PS.SHOCU0001.01.1]

Boundary Adjustment at Hopewell Culture National Historical Park

AGENCY: National Park Service, Interior.

ACTION: Notification of boundary adjustment.

SUMMARY: The boundary of Hopewell Culture National Historical Park is adjusted to include an adjacent nonfederal parcel of land containing 4.03 acres. Upon completion of this adjustment, fee simple interest in the land will be acquired by exchange for a federal parcel within the park. The federal parcel will be conveyed subject to restrictions to ensure continued compatible use of the property within the park. Both parcels are located in Ross County, Ohio.

DATES: The effective date of this boundary adjustment is October 27, 2016.

ADDRESSES: The map depicting this boundary adjustment is available for inspection at the following locations: National Park Service, Land Resources Program Center, Midwest Region, 601 Riverfront Drive, Omaha, NE 68102 and National Park Service, Department of the Interior, 1849 C Street NW., Washington, DC 20240.

FOR FURTHER INFORMATION CONTACT: Superintendent Dean Alexander, Hopewell Culture National Historical Park, 16062 State Route 104, Chillicothe, OH 45601-8694, telephone (740) 774-1126.

SUPPLEMENTARY INFORMATION: Notice is hereby given that, pursuant to 16 U.S.C. 410uu-1(c), the boundary of Hopewell Culture National Historical Park is adjusted to include an additional 4.03 acres. This boundary adjustment is depicted on Map No. 353/132767 dated May 2016.

16 U.S.C. 410uu-1(c) states that the Secretary of the Interior may, by publication of notice in the Federal Register after receipt of public comment, make minor adjustments to the boundary of Hopewell Culture National Historical Park, provided that such adjustments cumulatively do not exceed a limit presently calculated to be 165.16 acres. To date, 114.58 acres have been added to the park under such authority; an additional 50.58 acres remain authorized for inclusion in the park. This boundary adjustment will include an additional 4.03 acres needed for trail development.

Dated: September 2, 2016.
Cameron H. Sholly,
Regional Director, Midwest Region.

[FR Doc. 2016-26013 Filed 10-26-16; 8:45 am]

BILLING CODE 4312-52-P